DEPARTMENT OF ENERGY

Federal Energy Regulatory Commission

[Project Nos. 12606-000, 2545-091]

Post Falls Hydroelectric Project, Spokane River Developments Project, Avista Corporation Spokane, WA; Notice of Intent To Hold a Public Meeting To Discuss the Draft Environmental Impact Statement for the Spokane River Developments and Post Falls Hydroelectric Projects

January 9, 2007.

In accordance with the National Environmental Policy Act of 1969 and the Federal Energy Regulatory Commission (Commission or FERC) regulations contained in the Code of Federal Regulations (CFR)(18 CFR Part 380 [FERC Order No. 486, 52 FR 47897]) the Office of Energy Projects staff (staff) reviewed the applications for New Major Licenses for the Spokane River Developments and Post Falls Project Hydroelectric Projects. Staff prepared a draft environmental impact statement (DEIS) for the projects which are located on the Spokane River, Washington.

The DEIS contains staff's analysis of the potential environmental effects of the projects and concludes that licensing the projects, with staff's recommended measures, would not constitute a major federal action significantly affecting the quality of the human environment. Copies of the DEIS have been sent to Federal, State, and local agencies; public interest groups; and individuals on the Commission's mailing list.

A copy of the DEIS is available for review at the Commission's Public Reference Room or may be viewed on the Commission's Web site at http://www.ferc.gov using the “e-Library” link. Enter the docket number (P-2545) or (P-12606), to access the document. For assistance, contact FERC Online Support at FERCOnlineSupport@ferc.gov or toll-free at (866) 208-2376, or for TTY, contact (202) 502-8659.

Comments should be filed with Magalie R. Salas, Secretary, Federal Energy Regulatory Commission, 888 First Street, NE., Washington, DC 20426. All comments must be filed by March 6, 2007, and should reference Project Nos. 2545-091 and 12606-000. Comments may be filed electronically via the Internet in lieu of paper. The Commission strongly encourages electronic filings. See 18 CFR 385.2001(a)(1)(iii) and instructions on the Commission's Web site at http://www.ferc.gov under the eLibrary link.

In addition to or in lieu of sending written comments, the public is invited to attend one or both meetings that will be held in Spokane, Washington to receive comments on the draft EIS. Both meetings are open to anyone who would like to provide comments. The meeting format will be the same for either meeting. The meetings will be recorded by a court reporter, and all statements (verbal and written) will become part of the Commission's public record for the project. The time and location of the meetings are as follows:

Date: February 8, 2007.

Times: Morning Meeting 9 a.m.—12 noon (PST); Evening Meeting 6 p.m.—9 p.m.

Place: Doubletree Spokane City Center Hotel, Ballrooms A/B.

Address: 322 North Spokane Falls Court, Spokane, Washington.

Telephone: 509-744-2313.

For Further Information Contact: John Blair at (202) 502-6092 or at john.blair@ferc.gov.

Magalie R. Salas,
Secretary.

[FR Doc. E7-443 Filed 1-12-07; 8:45 am]

BILLING CODE 6717-01-P